DEPARTMENT OF HOMELAND SECURITY

Coast Guard

33 CFR Part 100

[CGD05-06-024]

RIN 1625-AA08

Special Local Regulations for Marine Events; Rappahannock River, Essex County, Westmoreland County, Layton, VA; Correction

AGENCY: Coast Guard, DHS.

ACTION: Proposed rule; correction.

SUMMARY: This document corrects the preamble to a proposed rule published in the Federal Register of April 3, 2006, regarding a temporary special local regulation for “2006 Rappahannock River Boaters Association Spring and Fall Radar Shootout”, power boat races to be held on the waters of the Rappahannock River near Layton, VA. This correction changes the date by which comments and related material must reach the Coast Guard, from June 2, 2006 to May 3, 2006. The change is necessary because the June 2 date does not allow adequate time to issue a final rule before June 3, 2006, the date of the first event affected by the proposed rule.

FOR FURTHER INFORMATION CONTACT: Dennis Sens, Marine Events Coordinator, Fifth Coast Guard District, at (757) 398-6204.

Correction

In proposed rule FR Doc. E6-4788, beginning on page 16525 in the issue of April 3, 2006, make the following correction in the DATES section. On page 16525 in the second column, change “June 2, 2006” to “May 3, 2006.”

Dated: April 4, 2006.
S.G. Venckus,
Chief, Office of Regulations and Administrative Law.

[FR Doc. E6-5208 Filed 4-7-06; 8:45 am]

BILLING CODE 4910-15-P